DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Housing Starts, Sales and Completions.

Form Number(s): SOC-Q1/SF.1, SOC-Q1/MF.1.

OMB Control Number: 0607-0110.

Type of Request: Revision of a currently approved collection.

Burden Hours: 14,615.

Number of Respondents: 22,200.

Average Hours Per Response: 5 minutes.

Needs and Uses: Government agencies and private companies use statistics from the Survey of Housing Starts, Sales, and Completions, otherwise known as the Survey of Construction (SOC) to monitor and evaluate the large and dynamic housing construction industry. Data for two principal economic indicators are produced from the SOC: New Residential Construction (housing starts and housing completions) and New Residential Sales. In addition, a number of other statistical series are produced, including extensive information on the physical characteristics of new residential buildings, and indexes measuring rates of inflation in the price of new buildings. These statistics are based on a sample of residential buildings in permit-issuing places and a road canvass in a sample of land areas not covered by building permit systems.

The field representatives (FRs) mail forms SOC-QI/SF.1 and SOC-QI/MF.1 to new respondents to complete. A few days later, the FRs either call or visit the respondents to enter their survey responses into a laptop computer using the Computer-Assisted Personal Interviewing (CAPI) software formatted for the SOC-QI/SF.1 and SOC-QI/MF.1 forms. The respondents are homebuilders, real estate agents, rental agents, or new homeowners of sampled residential buildings. FRs contact respondents multiple times based on the number of projects in the sample and the number of months required to complete the project.

The CAPI software for all SOC data collection has been rewritten and modernized to work on laptop computers with the Microsoft Windows operating system. The new software has been used in the field since May 2008. The new software provides the opportunity to modify the questionnaire to introduce new data items that are of interest to data users. After working with key data users and testing potential new data items, we identified seven new data items to be added to the single-family questionnaire and three new items for the multi-family questionnaire. We request approval to add these questions to the electronic questionnaire in December 2008 to allow tabulation of these characteristics for buildings started, completed, or sold in 2009.

The Census Bureau also worked with key data users to review the existing data items for relevance and determined that information about whether closing costs are included in the sales price is of limited usefulness because the dollar value of these costs is not collected. Data users had little interest in the data so the question has been eliminated.

The previous SOC questionnaire software required that all characteristics of new single-family units be re-asked at time of completion to identify any changes that occurred during the construction process. Census staff studied the data and determined that the square footage of the house and basement were the only characteristics that changed significantly upon completion of the house and need to be re-asked. Data users requested updates to the sale price, contract price, and intent at time of completion, so these questions will also be re-asked. Because several questions will no longer be re-asked, the overall length of the average interview will not change.

The Census Bureau uses the information collected in the SOC to publish estimates of the number of new residential housing units started, under construction, completed, and the number of new houses sold and for sale. The Census Bureau also publishes many financial and physical characteristics of new housing units. Government agencies use these statistics to evaluate economic policy, measure progress towards the national housing goal, make policy decisions, and formulate legislation. For example, the Board of Governors of the Federal Reserve System uses data from this survey to evaluate the effect of interest rates in this interest-rate sensitive area of the economy. The Bureau of Economic Analysis uses the data in developing the Gross Domestic Product (GDP). The private sector uses the information for estimating the demand for building materials and the many products used in new housing and to schedule production, distribution, and sales efforts. The financial community uses the data to estimate the demand for short-term (construction loans) and long-term (mortgages) borrowing.

Affected Public: Business or other for-profit organizations; Not-for-profit institutions.

Frequency: Monthly.

Respondent's Obligation: Voluntary.

Legal Authority: Title 13, United States Code, Sections 9(b), 161, and 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 19, 2008.
Gwellnar Banks,
Management Analyst, Office of the Chief Information Officer.

[FR Doc. E8-22412 Filed 9-23-08; 8:45 am]

BILLING CODE 3510-07-P